DEPARTMENT OF DEFENSE

Department of the Air Force

U.S. Air Force Scientific Advisory Board; Notice of Meeting

AGENCY: Department of the Air Force, U.S. Air Force Scientific Advisory Board.

ACTION: Meeting notice.

SUMMARY: Due to difficulties, beyond the control of the U.S. Air Force Scientific Advisory Board (SAB) or its Designated Federal Officer, the Board must meet no later than November 2, 2011 to deliberate on recent events impacting upon one of the Board's current tasks from the Secretary of the Air Force. Since the Department of the Air Force is unable to file a Federal Register notice announcing the meeting within the 15-calendar day period the Advisory Committee Management Officer for the Department of Defense, pursuant to 41 CFR 102-3.150(b), waives the 15-calendar day notification requirement.

Under the provisions of the Federal Advisory Committee Act of 1972 (5 U.S.C., Appendix, as amended), the Government in the Sunshine Act of 1976 (5 U.S.C. 552b, as amended), and 41 CFR 102-3.150, the Department of Defense announces that the SAB meeting will take place November 2, 2011 at 1180 Air Force Pentagon, Rm 4E979, Washington, DC 20330, beginning at 1 p.m. (EDT).

The purpose of this SAB meeting is to review the Aircraft Oxygen Generation quick-look study.

In accordance with 5 U.S.C. 552b, as amended, and 41 CFR 102-3.155, the Administrative Assistant of the Air Force, in consultation with the Air Force General Counsel, has agreed that the public interest requires the United States Air Force Scientific Advisory Board meeting be closed to the public because it will involve discussions including trade secrets and matters covered by 5 U.S.C. 552b(c)(4).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice will be accepted by the Designated Federal Officer at the fax number listed below up to two hours prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt. Col. Matthew E. Zuber, voice (240) 612-5503, fax (703) 695-4301, United States Air Force Scientific Advisory Board, 1500 West Perimeter Road, Ste. #3300, Joint Base Andrews AFB, MD 20762, matthew.zuber@pentagon.af.mil.

Bao-Anh Trinh,
Air Force Federal Register Liaison Officer.

[FR Doc. 2011-28998 Filed 11-8-11; 8:45 am]

BILLING CODE 5001-10-P